DEPARTMENT OF COMMERCE

Foreign-Trade Zones Board

[Docket 51-2002]

Foreign-Trade Zone 124—Gramercy, LA; Application for Subzone Status: J. Ray McDermott, Inc. (Offshore Drilling Platforms)

An application has been submitted to the Foreign-Trade Zones Board (the Board) by the Port of South Louisiana Commission, grantee of FTZ 124, requesting special-purpose subzone status for the offshore drilling platform manufacturing facilities of J. Ray McDermott, Inc. (JRM), in Amelia, Louisiana. The application was submitted pursuant to the provisions of the Foreign-Trade Zones Act, as amended (19 U.S.C. 81a-81u), and the regulations of the Board (15 CFR part 400). It was formally filed on November 12, 2002.

The proposed subzone would consist of two sites leased by JRM in Amelia, Louisiana: Site 1 (589 acres)—“East/Southeast Yard”, 2317 Highway 662 South (Assumption Parish), and Site 2 (50 acres)—“West Yard”, 539 Degravelle Road (St. Mary Parish), located about 50 miles southwest of New Orleans. The facilities (1,440 employees) are used for the construction, fabrication, and repair of offshore floating and fixed oil drilling platforms and components thereof for domestic and international customers. Foreign components that may be used at the JRM yards (representing about 20% of finished platform value) may include gas turbines, gas compressors, generator sets, steel mill products, valves, pumps, centrifuges, flexible tubing, electrical flow control systems, and generators (2002 general duty rate range: free—5.0%, ad valorem).

FTZ procedures would exempt JRM from Customs duty payments on the foreign components (except steel mill products) used in export activity. On its domestic sales, the company would not be required to pay applicable Customs duties on the foreign components, or it would be able to choose the duty rate that applies to finished offshore drilling platforms (duty free) for the foreign-origin components noted above except for steel mill products. The manufacturing activity conducted under FTZ procedures would be subject to the “standard shipyard restriction” applicable to foreign-origin steel mill products (e.g., angles, pipe, plate), which requires that full Customs duties be paid on such items. The application indicates that the savings from FTZ procedures would help improve the facility's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is January 21, 2003. Rebuttal comments in response to material submitted during the foregoing period may be submitted during the subsequent 15-day period to February 3, 2003.

A copy of the application will be available for public inspection at the Office of the Foreign-Trade Zones Board's Executive Secretary at address No. 1 listed above and at the U.S. Department of Commerce Export Assistance Center, Suite 1170, 365 Canal Street, New Orleans, LA 70130.

Dated: November 12, 2002.
Dennis Puccinelli,
Executive Secretary.

[FR Doc. 02-29498 Filed 11-19-02; 8:45 am]

BILLING CODE 3510-DS-P